DEPARTMENT OF DEFENSE

48 CFR Part 204

[DFARS Case 2000-D002]

Defense Federal Acquisition Regulation Supplement; Closeout of Foreign Military Sales Contract Line Items

AGENCY: Department of Defense (DoD).

ACTION: Proposed rule; withdrawal.

SUMMARY: DoD is withdrawing the proposed rule published at 65 FR 19865 on April 13, 2000. The rule proposed amendments to the contract closed out policy in the Defense Federal Acquisition Regulation Supplement to specify that, if a contract includes Foreign Military Sales (FMS) contract line items and non-FMS contract line items, the FMS line items should be closeout as soon as the closeout requirements for those line items are satisfied. This change was proposed as part of a DoD initiative to improve the FMS process. Public comments on the proposed rule indicated that many automated acquisition systems could not accommodate this change. Therefore, DoD is withdrawing the proposed rule and is exploring alternative methods of expediting the closeout of FMS contract line items.

FOR FURTHER INFORMATION CONTACT: Ms. Melissa Rider, Defense Acquisition Regulations Council, OUSD(AT&L)DP(DAR), IMD 3D139, 3062 Defense Pentagon, Washington, DC 20301-3062. Telephone (703) 602-4245; telefax (703) 602-0350. Please cite DFARS Case 2000-D002.

Michele P. Peterson,
Executive Editor, Defense Acquisition Regulations Council.

[FR Doc. 00-23371 Filed 9-11-00; 8:45 am]

BILLING CODE 5000-04-M